INTERNATIONAL TRADE COMMISSION

[Investigation No. TA-201-73]

Steel

AGENCY: United States International Trade Commission.

ACTION: Change in scheduled date for posthearing briefs on injury.

SUMMARY: On September 5, 2001, the Commission published notice of the schedule for the public hearings to be conducted during the injury phase of investigation No. TA-201-73, Steel (66 FR 46469, September 5, 2001). That notice set September 27, 2001 as the deadline for posthearing briefs on injury regarding carbon and alloy flat products. The Commission has changed that deadline to 2 p.m. on September 28, 2001.

EFFECTIVE DATE: September 7, 2001.

FOR FURTHER INFORMATION CONTACT: Vera Libeau (202-205-3176), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. Media should contact Peg O'Laughlin (202-205-1819), Office of External Relations. General information concerning the Commission may also be obtained by accessing its internet server (http://www.usitc.gov). The public record for this investigation may be viewed on the Commission's electronic docket (EDIS-ON-LINE) at http://dockets.usitc.gov/eol/public.

Authority: This investigation is being conducted under the authority of section 202 of the Trade Act of 1974; this notice is published pursuant to section 206.3 of the Commission's rules.

Issued: September 7, 2001.
By order of the Commission.
Donna R. Koehnke,
Secretary.

[FR Doc. 01-22963 Filed 9-12-01; 8:45 am]

BILLING CODE 7020-02-P